DEPARTMENT OF TRANSPORTATION

Federal Aviation Administration

[Policy Statement No. ANE-2003-35-1-R0]

Policy for Propeller Ice Protection Equipment

AGENCY: Federal Aviation Administration, DOT.

ACTION: Notice of issuance; policy statement.

SUMMARY: The Federal Aviation Administration (FAA) announces the availability of policy for Propeller Ice Protection Equipment.

DATES: The FAA issued policy statement number ANE-2003-35-1-R0 on March 2, 2005.

FOR FURTHER INFORMATION CONTACT: Jay Turnberg, FAA, Engine and Propeller Standards Staff, ANE-110, 12 New England Executive Park, Burlington, MA 01803; e-mail jay.turnberg@faa.gov; telephone (781) 238-7116; fax: (781) 238-7199. The policy statement is available on the Internet at the following address: http://www.airweb.faa.gov/rgl. If you do not have access to the Internet, you may request a copy of the policy by contacting the individual listed in this section.

SUPPLEMENTARY INFORMATION: The FAA published a notice in the Federal Register on October 26, 2004 (69 FR 62505) to announce the availability of the proposed policy and invite interested parties to comment.

We have filedd in the docket all comments we received, as well as a report summarizing each substantive public contact with FAA personnel concerning this policy. The docket is available for public inspection. If you wish to review the docket in person, go to the above address between 9 a.m. and 5 p.m., Monday through Friday, except Federal holidays.

Background

The policy provides guidance for compliance with parts 21, 23, 25, and 35 of Title 14 of the Code of Federal Regulations. The policy clarifies configuration and quality control responsibilities for certificate holders and parts suppliers involved with propeller ice protection systems on type certificated products.

Authority: 49 U.S.C. 106(g), 40113, 44701-44702, 44704.

Issued in Burlington, Masssachusetts, on March 2, 2005.
Jay J. Pardee,
Manager, Engine and Propeller Directorate, Aircraft Certification Service.

[FR Doc. 05-4744 Filed 3-9-05; 8:45 am]

BILLING CODE 4910-13-M